DEPARTMENT OF TRANSPORTATION

Federal Aviation Administration

14 CFR Parts 61, 91, and 135

[Docket No. FAA-2006-24981; Amendment Nos. 61-119, 91-301, and 135-114]

RIN 2120-AI82

Special Federal Aviation Regulation No. 108—Mitsubishi MU-2B Series Airplane Special Training, Experience, and Operating Requirements; Notice of OMB Approval for Information Collection

AGENCY: Federal Aviation Administration, DOT.

ACTION: Final rule; notice of Office of Management and Budget approval for information collection.

SUMMARY: This notice announces the Office of Management and Budget's (OMB) approval of the information collection requirement for Special Federal Aviation Regulation (SFAR) No. 108, which was published on February 6, 2008.

DATES: The FAA received OMB approval for the information collection requirements in SFAR No. 108 on March 3, 2008. SFAR No. 108, which includes these information collection requirements, will become effective on April 7, 2008. The compliance date is February 6, 2009.

FOR FURTHER INFORMATION CONTACT: Ron Baker, General Aviation and Commercial Division, Commercial Operations Branch, AFS-800, Federal Aviation Administration, Room 835, 800 Independence Avenue, SW., Washington, DC 20591; telephone (202) 267-8212 ; facsimile (202) 267-5094.

SUPPLEMENTARY INFORMATION: On February 6, 2008, the FAA published the final rule, “Special Federal Aviation Regulation No. 108—Mitsubishi MU-2B Series Airplane Special Training, Experience, and Operating Requirements” (73 FR 7034). The rule created new pilot training, experience, and operating requirements for persons operating the Mitsubishi MU-2B series airplane. The rule contained information collection requirements that had not yet been approved by the Office of Management and Budget at the time of publication. In the DATES section of the rule, the FAA noted that affected parties did not need to comply with the information collection requirements until OMB approved the FAA's request to collect the information.

In accordance with the Paperwork Reduction Act, OMB approved that request on March 3, 2008, and assigned the information collection OMB Control Number 2120-0725. The FAA request was approved by OMB without change and expires on March 31, 2011. This notice is to inform affected parties of the approval and to announce that the information collection requirements of SFAR No. 108 will become effective when the final rule becomes effective on April 7, 2008.

Authority for This Rulemaking

The Federal Aviation Administration's (FAA) authority to issue rules on aviation safety is found in Title 49 of the United States Code. Subtitle I, Section 106, describes the authority of the FAA to issue, rescind, and revise the rules. This rulemaking is promulgated under the authority described in Subtitle VII, Aviation Programs, Part A, Air Commerce and Safety, Subpart III, Safety, section 44701, General Requirements. Under section 44701 the FAA is charged with prescribing regulations setting the minimum standards for practices, methods, and procedures necessary for safety in air commerce. This regulation is within the scope of that authority because it will set the minimum level of safety to operate the Mitsubishi MU-2B.

Issued in Washington, DC, on March 13, 2008.
Pamela Hamilton-Powell,
Director, Office of Rulemaking.

[FR Doc. E8-5470 Filed 3-18-08; 8:45 am]

BILLING CODE 4910-13-P